DEPARTMENT OF TRANSPORTATION

Federal Railroad Administration

Petition for Waiver of Compliance

In accordance with part 211 of title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Austin & Texas Central Railroad

(Waiver Petition Docket Number FRA-2010-0149)

The Austin & Texas Central Railroad (ATCX), a Class III railroad, seeks a waiver of compliance from the requirements of 49 CFR part 223, Safety Glazing Standards 49 CFR 223.15 Requirements for existing passenger cars. Specifically, ATCX has petitioned for one lightweight passenger car built in 1948, for the Denver Rio Grande & Western Railway in 1948. ATCX operates this car on 154.1 miles of track owned by the Capital Metro Transit Authority. Since the railroad's creation in 1992, the railroad has operated primarily between milepost (MP) 54.5 at Milby in Austin, Texas, and MP 115.0 at Burnet, Texas. Since before 1992, there have been no acts of vandalism involving any glazing location associated with the operation of a train. The railroad operates five other cars that operate under a previous waiver (Docket Number FRA-2008-0066). The maximum authorized speed for this train is 20 mph.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0149) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (Volume 65, Number 70; Page 19477) or at http://www.dot.gov/privacy.html.

Issued in Washington, DC on October 26, 2010.
Robert C. Lauby,
Deputy Associate Administrator for Regulatory and Legislative Operations.

[FR Doc. 2010-27567 Filed 11-1-10; 8:45 am]

BILLING CODE 4910-06-P